DEPARTMENT OF HOMELAND SECURITY

Federal Emergency Management Agency

44 CFR Part 67

[Docket No. FEMA-B-7736 & D-7820]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) # Depth in feet above ground: Effective | *Elevation in feet (NGVD) +Elevation in feet (NAVD) # Depth in feet above ground: Modified | Communities affected
Cabarrus County, North Carolina and Incorporated Areas
Rocky River Tributary 14 | Approximately 500 feet upstream of the confluence with Rocky River | None | +561 | Town of Harrisburg.
| Approximately 1,700 feet upstream of Rocky River Crossing Road | None | +574
*National Geodetic Vertical Datum.
+North American Vertical Datum.
#Depth in feet above ground.
ADDRESSES
Town of Harrisburg
Maps are available for inspection at the Harrisburg Town Hall, 4100 Main Street, Suite 101, Harrisburg, North Carolina.
Send comments to The Honorable Tim Hagler, Mayor of the Town of Harrisburg, P.O. Box 100, Harrisburg, North Carolina 28075.
Chowan County, North Carolina and Incorporated Areas
Filberts Creek | Approximately 250 feet downstream of Virginia Road/NC Highway 32 | None | +7 | Town of Edenton.
| Approximately 1,120 feet upstream of Virginia Road/NC Highway 32 | None | +14
Northeast Tributary of Queen Anne Creek | At the confluence with Queen Anne Creek | +10 | +7 | Unincorporated Areas of Chowan County.
| Approximately 920 feet upstream of the confluence with Northeast Tributary of Queen Anne Creek Tributary 1 | None | +12
Tributary 1 | At the confluence with Northeast Tributary of Queen Anne Creek | None | +8 | Unincorporated Areas of Chowan County.
| Approximately 1,150 feet upstream of the confluence with Northeast Tributary of Queen Anne Creek | None | +14
| At the confluence with Queen Anne Creek | +10 | +7 | Unincorporated Areas of Chowan County, Town of Edenton.
| Approximately 80 feet downstream of Railroad | None | +16
Pembroke Creek | At Wildcat Road (State Road 1208) | None | +7 | Unincorporated Areas of Chowan County.
| Approximately 1.2 miles upstream of the confluence with Pembroke Creek Tributary 8 | None | +13
Tributary 1 | Approximately 0.5 mile upstream of the confluence with Pembroke Creek | None | +8 | Unincorporated Areas of Chowan County.
| Approximately 330 feet downstream of VS Road/NC Highway 32 | None | +16
Tributary 2 | At the confluence with Pembroke Creek | None | +7 | Unincorporated Areas of Chowan County.
| Approximately 0.4 mile upstream of the confluence with Pembroke Creek | None | +8
Tributary 3 | At the confluence with Pembroke Creek | None | +7 | Unincorporated Areas of Chowan County.
| Approximately 0.5 mile upstream of the confluence with Pembroke Creek | None | +8
Tributary 4 | At the confluence with Pembroke Creek | None | +7 | Unincorporated Areas of Chowan County.
| Approximately 1.4 miles upstream of Greenhall Road (State Road 1316) | None | +15
Tributary 5 | At the confluence with Pembroke Creek | None | +8 | Unincorporated Areas of Chowan County.
| Approximately 0.6 mile upstream of Greenhall Road (State Road 1316) | None | +13
Tributary 6 | At the confluence with Pembroke Creek | None | +10 | Unincorporated Areas of Chowan County.
| Approximately 1,620 feet upstream of the confluence with Pembroke Creek | None | +11
Tributary 7 | At the confluence with Pembroke Creek | None | +11 | Unincorporated Areas of Chowan County.
| Approximately 1,700 feet upstream of the confluence with Pembroke Creek | None | +11
Tributary 8 | At the confluence with Pembroke Creek | None | +12 | Unincorporated Areas of Chowan County.
| Approximately 0.5 mile upstream of the confluence with Pembroke Creek Tributary 8A | None | +12
Tributary 8A | At the confluence with Pembroke Creek Tributary 8 | None | +12 | Unincorporated Areas of Chowan County.
| Approximately 0.5 mile upstream of the confluence with Pembroke Creek Tributary 8 | None | +12
Queen Anne Creek | Just downstream of Paxton Lane | +7 | +6 | Unincorporated Areas of Chowan County, Town of Edenton.
| Approximately 490 feet upstream of U.S. 17 BYP | None | +15
Rockyhock Creek | At Rocky Hock Road (State Road 1222) | None | +7 | Unincorporated Areas of Chowan County.
| Approximately 0.8 mile upstream of NC Highway 32 | None | +29
Tributary 1 | At the confluence with Rockyhock Creek | None | +7 | Unincorporated Areas of Chowan County.
| Approximately 0.6 mile upstream of the confluence with Rockyhock Creek | None | +9
Tributary 2 | At the confluence with Rockyhock Creek | None | +8 | Unincorporated Areas of Chowan County.
| Approximately 0.9 mile upstream of the confluence with Rockyhock Creek | None | +9
Tributary 3 | At the confluence with Rockyhock Creek | None | +11 | Unincorporated Areas of Chowan County.
| Approximately 0.8 mile upstream of Rocky Hock Landing Road (State Road 1224) | None | +15
Tributary 3A | At the confluence with Rockyhock Creek Tributary 3 | None | +11 | Unincorporated Areas of Chowan County.
| Approximately 0.6 mile upstream of the confluence with Rockyhock Creek Tributary 3 | None | +15
Tributary 4 | At the confluence with Rockyhock Creek | None | +11 | Unincorporated Areas of Chowan County.
| Approximately 100 feet downstream of Nixon Road (State Road 1225) | None | +14
Tributary 5 | At the confluence with Rockyhock Creek | None | +11 | Unincorporated Areas of Chowan County.
| Approximately 350 feet downstream of Cisco Road (State Road 1314) | None | +36
Tributary 5A | At the confluence with Rockyhock Creek Tributary 5 | None | +20 | Unincorporated Areas of Chowan County.
| Approximately 0.5 mile upstream of the confluence with Rockyhock Creek Tributary 5 | None | +25
Tributary 6 | At the confluence with Rockyhock Creek | None | +12 | Unincorporated Areas of Chowan County.
| Approximately 0.4 mile upstream of Rocky Hock Landing Road (State Road 1224) | None | +15
Tributary 7 | At the confluence with Rockyhock Creek | None | +15 | Unincorporated Areas of Chowan County.
| Approximately 0.8 mile upstream of the confluence with Rockyhock Creek | None | +18
Tributary 8 | At the confluence with Rockyhock Creek | None | +15 | Unincorporated Areas of Chowan County.
| Approximately 150 feet downstream of NC Highway 32 | None | +22
*National Geodetic Vertical Datum.
+North American Vertical Datum.
#Depth in feet above ground.
ADDRESSES
Town of Edenton
Maps are available for inspection at Edenton Town Hall, 400 South Broad Street, Edenton, North Carolina.
Send comments to Ms. Anne-Marie Knighton, Edenton Town Manager, P.O. Box 300, Edenton, North Carolina 27932.
Unincorporated Areas of Chowan County
Maps are available for inspection at Chowan County Planning Department, 108 East King Street, Edenton, North Carolina.
Send comments to Mr. Luther C. Copeland, Jr., Chowan County Manager, P.O. Box 1030, Edenton, North Carolina 27932.
Macon County, North Carolina and Incorporated Areas
Allison Creek | The confluence with Jones Creek | None | +2,232 | Unincorporated Areas of Macon County.
| Approximately 0.5 mile upstream of Southards Road (State Road 1133) | None | +2,492
Beasely Creek | At the confluence with Cowee Creek | None | +2,179 | Unincorporated Areas of Macon County.
| Approximately 215 feet downstream of Goshen Road (State Road 1347) | None | +2,269
Big Creek | The confluence with Cullasaja River | None | +3,606 | Unincorporated Areas of Macon County, Town of Highlands.
| Approximately 25 feet downstream of the confluence of Houston Branch | None | +3,837
Brooks Creek | The confluence with Clear Creek | None | +2,477 | Unincorporated Areas of Macon County.
| Approximately 0.4 mile upstream of the confluence with Clear Creek | None | +2,483
Burningtown Creek | At the confluence with Little Tennessee River | None | +1,890 | Unincorporated Areas of Macon County.
| Approximately 480 feet upstream of Younce Creek Road (State Road 1390) | None | +2,030
Caler Fork | The confluence with Cowee Creek | None | +2,013 | Unincorporated Areas of Macon County.
| Approximately 20 feet downstream of the confluence of Dalton Creek | None | +2,081
Cartoogechaye Creek | The confluence of Little Tennessee River | None | +2,024 | Unincorporated Areas of Macon County, Town of Franklin.
| At the confluence of Jones Creek and Poplar Cove Creek | None | +2,179
Cat Creek | The confluence with Rabbit Creek | None | +2,046 | Unincorporated Areas of Macon County.
| Approximately 0.5 mile upstream of Ferguson Road (State Road 1507) | None | +2,087
Chattooga River | The North Carolina/Georgia state boundary | None | +2,150 | Unincorporated Areas of Macon County.
| At the confluence of Cane Creek | None | +2,512
Clear Creek | The North Carolina/Georgia state boundary | None | +2,467 | Unincorporated Areas of Macon County.
| Approximately 390 feet upstream of Clear Creek Road (State Road 1613) | None | +2,498
Cold Spring Creek | The confluence with Whiteoak Creek | None | +3,162 | Unincorporated Areas of Macon County.
| Approximately 625 feet upstream of Cold Springs Creek Road (State Road 1397) | None | +3,382
Commissioner Creek | At the confluence with Little Tennessee River | None | +2,099 | Unincorporated Areas of Macon County.
| Approximately 0.8 mile upstream of the confluence with Little Tennessee River | None | +2,159
Coon Creek | The confluence with Watuaga Creek | None | +2,053 | Unincorporated Areas of Macon County.
| Approximately 430 feet upstream of Brendle Road (State Road 1331) | None | +2,268
Cove Branch | The confluence with Cullasaja River | None | +2,018 | Unincorporated Areas of Macon County.
| Approximately 890 feet upstream of Hunnicutt Road (State Road 1664) | None | +2,065
Cowee Creek | The confluence with Little Tennessee River | None | +1,958 | Unincorporated Areas of Macon County.
| At the confluence of Beasley Creek and Mica City Creek | None | +2,179
Coweeta Creek | The confluence with Little Tennessee River | None | +2,047 | Unincorporated Areas of Macon County.
| Approximately 490 feet upstream of the confluence of Howard Branch | None | +2,123
Crawford Branch | The confluence with Little Tennessee River | None | +2,012 | Unincorporated Areas of Macon County, Town of Franklin.
| Approximately 660 feet upstream of Crawford Lane | None | +2,096
Cullasaja River | The confluence with Little Tennessee River | None | +2017 | Unincorporated Areas of Macon County, Town of Franklin, Town of Highlands.
| Approximately 200 feet upstream of Crescent Trail | None | +3979
Ellijay Creek | The confluence with Cullasaja River | None | +2,054 | Unincorporated Areas of Macon County.
| Approximately 60 feet upstream of Little Ellijay Road (State Road 1528) | None | +2,235
Jones Creek | At the confluence with Poplar Cove Creek and Cartoogechaye Creek | None | +2,179 | Unincorporated Areas of Macon County.
| At the confluence of Allison Creek | None | +2,232
Little Tennessee River | The Macon/Swain County boundary | None | +1,835 | Unincorporated Areas of Macon County, Town of Franklin.
| Approximately 0.5 mile upstream of the confluence of Commissioner Creek | None | +2,100
Tributary 5 | At the confluence with Little Tennessee River | None | +2,015 | Unincorporated Areas of Macon County, Town of Franklin.
| Approximately 720 feet upstream of John Justice Road (State Road 1509) | None | +2,104
Tributary 6 | At the confluence with Little Tennessee River | None | +2,018 | Unincorporated Areas of Macon County, Town of Franklin.
| Approximately 1.0 mile upstream of the confluence with Little Tennessee River | None | +2,083
Lotla Creek | At the confluence with Little Tennessee River | None | +1,972 | Unincorporated Areas of Macon County.
| Approximately 0.7 mile upstream of Airport Road (State Road 1434) | None | +2,017
Lowery Creek | At the confluence with Jones Creek | None | +2,191 | Unincorporated Areas of Macon County.
| Approximately 330 feet downstream of Anderson Creek Road (State Road 1302) | None | +2,315
Mashburn Branch | The confluence with Cullasaja River | None | +2,027 | Unincorporated Areas of Macon County.
| Approximately 0.5 mile upstream of Fulton Road (State Road 1668) | None | +2,094
Matlock Creek | The confluence with Cowee Creek | None | +1,994 | Unincorporated Areas of Macon County.
| The confluence with Rickman Creek | None | +2,055
Middle Creek | The confluence with Little Tennessee River | None | +2,064 | Unincorporated Areas of Macon County.
| Approximately 155 feet downstream of the confluence of Drymans Branch | None | +2149
Mill Creek | The confluence with Cartoogechaye Creek | None | +2,091 | Unincorporated Areas of Macon County.
| The confluence of Mint Branch | None | +2,147
(Highlands) | The confluence with Cullasaja River | None | +3,658 | Town of Highlands.
| Approximately 150 feet downstream North 4th Street | None | +3,819
Monger Creek (Club Lake) | The confluence with Cullasaja River | None | +3,606 | Unincorporated Areas of Macon County, Town of Highlands.
| Approximately 1,230 feet upstream of Hummingbird Lane | None | +3,641
Nantahala River | Approximately 250 feet downstream of Macon/Swain County boundary | None | +1,961 | Unincorporated Areas of Macon County.
| Approximately 1.9 miles upstream of U.S. Highway 64 | None | +3,320
North Fork Coweeta Creek | The confluence with Coweeta Creek | None | +2,094 | Unincorporated Areas of Macon County.
| Approximately 0.6 mile upstream of Coweeta Church Road (State Road 1115) | None | +2,156
North Prong Ellijay Creek | The confluence with Ellijay Creek | None | +2,191 | Unincorporated Areas of Macon County.
| Approximately 0.6 mile upstream of the confluence with Ellijay Creek | None | +2,236
Otter Creek | At the confluence with Whiteoak Creek | None | +2,653 | Unincorporated Areas of Macon County.
| Approximately 1,200 feet upstream of Otter Creek Road (State Road 1365) | None | +2,842
Poplar Cove Creek | At the confluence with Cartoogechaye Creek and Jones Creek | None | +2,179 | Unincorporated Areas of Macon County.
| Approximately 380 feet upstream of Smith Hill Road (State Road 1306) | None | +2,264
Rabbit Creek | The confluence with Little Tennessee River | None | +2,001 | Unincorporated Areas of Macon County, Town of Franklin.
| At the confluence of Corbin Creek and Berry Creek | None | +2,220
Rocky Branch | The confluence with Little Tennessee River | None | +1,977 | Unincorporated Areas of Macon County.
| Approximately 950 feet downstream of Nettie Hurst Road | None | +1,996
Rose Creek | The confluence with Little Tennessee River | None | +1,946 | Unincorporated Areas of Macon County.
| Approximately 1,110 feet upstream of Furman Welch Road (State Road 1374) | None | +1,953
Satulah Branch | At the confluence with Mill Creek (Highlands) | None | +3,819 | Town of Highlands.
| Approximately 850 feet upstream of Smallwood Avenue | None | +3,832
Skeenah Creek | The confluence with Little Tennessee River | None | +2,037 | Unincorporated Areas of Macon County.
| Approximately 190 feet upstream of the confluence of South Fork Skeenah Creek | None | +2,073
Tessentee Creek | The confluence with Little Tennessee River | None | +2,056 | Unincorporated Areas of Macon County.
| The confluence of Whiterock Branch | None | +2,347
Watuaga Creek | The confluence with Little Tennessee River | None | +1,985 | Unincorporated Areas of Macon County.
| Approximately 155 feet downstream of Brown Branch Road | None | +2,230
Wayah Creek | At the confluence with Cartoogechaye Creek | None | +2,152 | Unincorporated Areas of Macon County.
| At the confluence of Shingletree Branch | None | +2,225
Whiteoak Creek | At the confluence with Nantahala River | None | +2,515 | Unincorporated Areas of Macon County.
| Approximately 900 feet upstream of the confluence of Cold Spring Creek | None | +3,169
*National Geodetic Vertical Datum.
+North American Vertical Datum.
#Depth in feet above ground.
ADDRESSES
Town of Franklin
Maps are available for inspection at Franklin Town Hall, 188 West Main Street, Franklin, North Carolina.
Send comments to The Honorable Joe Collins, Mayor of the Town of Franklin, 188 West Main Street, Franklin, North Carolina 28734.
Town of Highlands
Maps are available for inspection at Highlands Town Hall, 210 North Fourth Street, Highlands, North Carolina.
Send comments to The Honorable Don Mullen, Mayor of the Town of Highlands, P.O. Box 460, Highlands, North Carolina 28741.
Unincorporated Areas of Macon County
Maps are available for inspection at Macon County Planning Department, Human Services Building, 5 West Main Street, Franklin, North Carolina.
Send comments to Mr. Sam Greenwood, Macon County Manager, Courthouse Annex, 5 West Main Street, Franklin, North Carolina 28734.
Comal County, Texas, and Incorporated Areas
Alligator Creek | Approximately 4500 feet downstream from the intersection with FM 1101 Road | +640 | +643 | City of New Braunfels.
| Intersection with Hoffman Lane | None | +717
Tributary No. 6 | Confluence with Alligator Creek | None | +715 | City of New Braunfels, Unincorporated Areas of Comal County.
| Intersection with FM 306 | None | +795
Bear Creek (Dry Comal Watershed) | Confluence of Bear Creek and Dry Comal Watershed | None | +730 | City of Garden Ridge, Unincorporated Areas of Comal County.
| Confluence of Bear Creek and Bear Creek Tributary 14 | None | +831
Blieder's Creek | Intersection with River Road | None | +663 | City of New Braunfels, Unincorporated Areas of Comal County.
| Intersection with Schoenthal Road | None | +892
Bracken Tributary | Confluence with Cibolo Creek | None | +772 | City of Garden Ridge, Unincorporated Areas of Comal County.
| Approximately 2075 feet upstream from the intersection with Garden North Drive | None | +899
Cibolo Creek | Intersection with Lookout Road | None | +763 | Unincorporated Areas of Comal County, City of Fair Oaks Ranch, City of Selma.
| Approximately 1.1 mile upstream from the confluence with Postoak Creek | +1274 | +1276
Dry Comal Creek | At Altgelt Lane | +643 | +646 | City of New Braunfels, Unincorporated Areas of Comal County.
| Confluence of West Fork Dry Comal Creek and Upper Comal Creek | +784 | +780
Garden Ridge Tributary | Confluence of HID Tributary of Garden Ridge Tributary and Garden Ridge Tributary | None | +784 | City of Garden Ridge, Unincorporated Areas of Comal County.
| Intersection with Water Wood Drive | None | +903
Guadalupe River (Lower Reach) | Approximately 300 feet upstream from the intersection with Missouri Kansas Texas Railroad | +626 | +634 | Unincorporated Areas of Comal County.
| Confluence with Canyon Dam Emergency Spillway Channel | +755 | +760
West Fork Tributary | Confluence with West Fork Dry Comal Creek | +802 | +799 | Unincorporated Areas of Comal County.
| Approximately 774 feet downstream of Schoenthal Rd | +850 | +852
*National Geodetic Vertical Datum.
+North American Vertical Datum.
#Depth in feet above ground.
ADDRESSES
City of Fair Oaks Ranch
Maps are available for inspection at 7286 Dietz Elkhorn, Fair Oaks Ranch, TX 78015.
Send comments to The Honorable E.L. Boots Gaubatz, Mayor, 7286 Dietz Elkhorn, Fair Oaks Ranch, TX 78015.
City of Garden Ridge
Maps are available for inspection at 9357 Schoenthal Road, Garden Ridge, TX 78266.
Send comments to The Honorable Jay Feibelman, Mayor, City of Garden Ridge, 9357 Schoenthal Road, Garden Ridge, TX 78266.
City of New Braunfels
Maps are available for inspection at 424 South Castell, New Braunfels, TX 78130.
Send comments to The Honorable Bruce Boyer, Mayor, City of New Braunfels, 424 South Castell, New Braunfels, TX 78130.
City of Selma
Maps are available for inspection at 9375 Corporate, Selma, TX 78154.
Send comments to The Honorable James Parma, Mayor, City of Selma, 9375 Corporate, Selma, TX 78154.
Unincorporated Areas of Comal County
Maps are available for inspection at 195 David Jonas Drive, New Braunfels, TX 78132.
Send comments to The Honorable Danny Scheel, Judge, Comal County, 199 Main Plaza, New Braunfels, TX 78130.

(Catalog of Federal Domestic Assistance No. 97.022, “Flood Insurance.”)

Dated: September 12, 2007.
David I. Maurstad,
Federal Insurance Administrator of the National Flood Insurance Program, Department of Homeland Security, Federal Emergency Management Agency.

[FR Doc. E7-18948 Filed 9-25-07; 8:45 am]

BILLING CODE 9110-12-P